DEPARTMENT OF DEFENSE

Department of the Army

ARMS Initiative Implementation

AGENCY: Department of the Army, DoD.

ACTION: Notice of meeting.

SUMMARY: Pursuant to Public Law 92-463, notice is hereby given of the next meeting of the Armament Retooling and Manufacturing Support (ARMS) Executive Advisory Committee (EAC). The EAC encourages the development of new and innovative methods to optimize the asset value of the Government-Owned, Contractor-Operated ammunition industrial base for peacetime and national emergency requirements, while promoting economical and efficient processes at minimal operating costs, retention of critical skills, community economic benefits, and a potential model for defense conversion. This meeting will be hosted by Alliant Ammunition and Powder Company, the Facility Use Contractor at Radford AAP, along with the Business Assistance Center-Defense Conversion at Radford University. The purpose of the meeting is to update the EAC and public on the status of ongoing actions, new items of interest, and suggested future direction/actions. Topics for this meeting will include—Strategic Planning for the ARMS Program; the ARMS/USDA Loan Guarantee Program; Facility Contracting and Leasing; ARMS Database and Metrics; a FAR 45 Update; the swearing in of new EAC Members; and a tour of the Radford Facility. This meeting is open to the public.

Date of Meeting: June 14-15, 2000.

Place of Meeting: Radford University International Center (RUIC), Radford, Virginia.

Time of Meeting: 8 am-5 pm on June 14 and 8 am-2 pm on June 15.

FOR FURTHER INFORMATION CONTACT: Mr. Elwood H. Weber, ARMS Task Force, HQ Army Materiel Command, 5001 Eisenhower Avenue, Alexandria Virginia 22333; Phone (703) 617-9788

SUPPLEMENTARY INFORMATION: A block of rooms has been reserved at the Best Western Radford Inn for the nights of 13-14 June 2000. The Radford Inn is located at 1501 Tyler Avenue, Radford, Virginia 24141, Local Phone (540) 639-3000. Please make your reservations by calling 800-628-1955. Be sure to mention that you are attending the ARMS PPTF. Reserve your room prior to May 30th to get the Government Rate of $53.25 a night. Also notify this office of your attendance by notifying either Susan Alten, susan.alten@hqda.army.mil 703-617-4246 (DSN 767-4246) or Elwood Weber, eweber@hqamc.army.mil, 703-617-9788 (DSN 767-9788). To insure adequate arrangements (transportation, conference facilities, etc.) for all attendees, we request your attendance notification with this office by May 30, 2000. Corporate casual is meeting attire.

John A. Hall,
Alternate Army Federal Register Liaison Officer.

[FR Doc. 00-11297 Filed 5-4-00; 8:45 am]

BILLING CODE 3710-08-P